DEPARTMENT OF ENERGY

Federal Energy Regulatory Commission

Combined Notice of Filings #1

Take notice that the Commission received the following exempt wholesale generator filings:

Docket Numbers: EG12-78-000.

Applicants: NaturEner Rim Rock Wind Energy, LLC.

Description: Notice of Self Certification of Exempt Wholesale Generator Status of NaturEner Rim Rock Wind Energy, LLC.

Filed Date: 6/18/12.

Accession Number: 20120618-5059.

Comments Due: 5 p.m. ET 7/9/12.

Docket Numbers: EG12-79-000.

Applicants: NaturEner Glacier Wind Energy 1, LLC.

Description: Notice of Self-Certification of Exempt Wholesale Generator Status of NaturEner Glacier Wind Energy 1, LLC.

Filed Date: 6/18/12.

Accession Number: 20120618-5073.

Comments Due: 5 p.m. ET 7/9/12.

Take notice that the Commission received the following electric rate filings:

Docket Numbers: ER12-2041-001.

Applicants: ISO New England Inc., New England Power Pool Participants Committee.

Description: Errata to Defined Term Revisions to be effective 8/14/2012.

Filed Date: 6/18/12.

Accession Number: 20120618-5024.

Comments Due: 5 p.m. ET 7/9/12.

Docket Numbers: ER12-2057-000.

Applicants: NaturEner Glacier Wind Energy 1, LLC.

Description: Filing of Temporary Use Agreement and Request for Waivers and Expedited Action to be effective 6/19/2012.

Filed Date: 6/18/12.

Accession Number: 20120618-5045.

Comments Due: 5 p.m. ET 7/9/12.

Docket Numbers: ER12-2058-000.

Applicants: Southwestern Electric Power Company.

Description: NTEC Sabine DPA to be effective 6/1/2012.

Filed Date: 6/18/12.

Accession Number: 20120618-5061.

Comments Due: 5 p.m. ET 7/9/12.

Docket Numbers: ER12-2059-000.

Applicants: Southwestern Electric Power Company.

Description: NTEC Scroggins 138 DPA to be effective 6/1/2012.

Filed Date: 6/18/12.

Accession Number: 20120618-5062.

Comments Due: 5 p.m. ET 7/9/12.

Docket Numbers: ER12-2060-000.

Applicants: Public Service Company of Oklahoma.

Description: WFEC Wardville Delivery Point Agreement to be effective 6/1/2012.

Filed Date: 6/18/12.

Accession Number: 20120618-5063.

Comments Due: 5 p.m. ET 7/9/12.

Docket Numbers: ER12-2061-000.

Applicants: AEP Texas Central Company.

Description: Los Vientos 1B IA to be effective 5/24/2012.

Filed Date: 6/18/12.

Accession Number: 20120618-5066.

Comments Due: 5 p.m. ET 7/9/12.

Docket Numbers: ER12-2062-000.

Applicants: Southwest Power Pool, Inc.

Description: Southwest Power Pool, Inc.'s Notice of Cancellation of Generator Interconnection Agreement.

Filed Date: 6/15/12.

Accession Number: 20120615-5188.

Comments Due: 5 p.m. ET 7/6/12.

Docket Numbers: ER12-2063-000.

Applicants: AEP Texas Central Company.

Description: Los Vientos 1A Amended & Restated IA to be effective 5/24/2012.

Filed Date: 6/18/12.

Accession Number: 20120618-5074.

Comments Due: 5 p.m. ET 7/9/12.

Docket Numbers: ER12-2064-000.

Applicants: Southwest Power Pool, Inc.

Description: 2439 Kansas Municipal Energy Agency NITSA NOA to be effective 6/1/2012.

Filed Date: 6/18/12.

Accession Number: 20120618-5097.

Comments Due: 5 p.m. ET 7/9/12.

Docket Numbers: ER12-275-004.

Applicants: Dynegy Oakland, LLC.

Description: Compliance Filing to be effective 1/1/2012.

Filed Date: 6/18/12.

Accession Number: 20120618-5092.

Comments Due: 5 p.m. ET 7/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2012.
Nathaniel J. Davis, Sr.,
Deputy Secretary.

[FR Doc. 2012-15499 Filed 6-25-12; 8:45 am]

BILLING CODE 6717-01-P